NATIONAL AERONAUTICS AND SPACE ADMINISTRATION

[Notice: (11- 075)]

NASA Federal Advisory Committees; Nominations and Self-Nominations

AGENCY: National Aeronautics and Space Administration.

ACTION: Public Invitation for Potential Members to Serve on NASA Federal Advisory Committees.

SUMMARY: In accordance with the Federal Advisory Committee Act, Public Law 92-463, as amended, the National Aeronautics and Space Administration, and in accordance with the Memorandum for the Heads of Executive Departments and Agencies signed on December 17, 2010, signed by the Director of the Office of Science and Technology Policy (OSTP), Executive Office of the President, NASA announces an invitation for the public to nominate individuals and also submit self-nominations for consideration as potential members of NASA's Federal advisory committees. NASA's Federal advisory committees have member vacancies from time to time throughout the year, and NASA will consider nominations and self-nominations to fill such intermittent vacancies. NASA is committed to selecting members to serve on its Federal advisory committees based on their expertise, knowledge, and contribution to the relevant subject area.

Deadline: September 20, 2011.

ADDRESSES: Nominations and self-nominations from interested individuals must be sent to NASA in letter form, be signed, and must include the name of the specific NASA Federal advisory committee of interest for consideration. Such letters must be accompanied by the following additional information: (1) Resume and/or curriculum vitae; (2) professional biography (one page maximum). Letters may be submitted electronically, in hard-copy, or both. Please send all letters and accompanying information to: Ms. Susan Burch, Advisory Committee Management Division, Office of International and Interagency Relations, NASA Headquarters, Washington, DC 20546; or electronically to: susan.burch@nasa.gov.

SUPPLEMENTARY INFORMATION: NASA's currently chartered Federal advisory committees are as follows:

• NASA Advisory Council [http://www.nasa.gov/offices/nac/home/index.html]—The NASA Advisory Council provides advice and recommendations to the NASA Administrator on Agency programs, policies, plans, financial controls, and other matters pertinent to the Agency's responsibilities. The Council's areas of emphasis are: Aeronautics; audit, finance and analysis; commercial space; education and public outreach; human exploration and operations; information technology infrastructure; science; and technology and innovation.

• Aerospace Safety Advisory Panel [http://oiir.hq.nasa.gov/asap/index.html]—The Aerospace Safety Advisory Panel provides advice and recommendations to the NASA Administrator and the Congress on matters related to safety, and perform such other duties as the NASA Administrator may request.

• International Space Station (ISS) Advisory Committee—The ISS Advisory Committee provides advice and recommendations to the NASA Associate Administrator for Space Operations on all aspects related to the safety and operational readiness of the ISS. It addresses additional issues and/or areas of interest identified by the NASA Associate Administrator for Space Operations.

• International Space Station (ISS) National Laboratory Advisory Committee—The ISS National Laboratory Advisory Committee monitors, assesses, and makes recommendations to the NASA Administrator regarding effective utilization of the ISS as a national laboratory and platform for research, and such other duties as the NASA Administrator may request.

• National Space-Based Positioning, Navigation and Timing (PNT) Advisory Board [http://www.pnt.gov]—The National Space-Based PNT Advisory Board provides advice to the PNT Executive Committee (comprised of nine stakeholder Federal agencies, of which NASA is a member) on U.S. space-based PNT policy, planning, program management, and funding profiles in relation to the current state of national and international space-based PNT services.

FOR FURTHER INFORMATION CONTACT: To view charters for each of the above-listed NASA Federal advisory committees, and for additional information, please visit the NASA Advisory Committee Management Division website [http://oiir.hq.nasa.gov/acmd.html], or contact Ms. Susan Burch, Advisory Committee Specialist, NASA Headquarters, Washington, DC 20546, (202) 358-0550, or susan.burch@nasa.gov.

Dated: August 15, 2011.
P. Diane Rausch,
Advisory Committee Management Officer, National Aeronautics and Space Administration.

[FR Doc. 2011-21153 Filed 8-18-11; 8:45 am]

BILLING CODE P